DEPARTMENT OF HEALTH AND HUMAN SERVICES

Centers for Disease Control and Prevention

[30Day-18-1036]

Agency Forms Undergoing Paperwork Reduction Act Review

In accordance with the Paperwork Reduction Act of 1995, the Centers for Disease Control and Prevention (CDC) has submitted the information collection request titled Community Assessment for Public Health Emergency Response (CASPER) to the Office of Management and Budget (OMB) for review and approval. CDC previously published a “Proposed Data Collection Submitted for Public Comment and Recommendations” notice on May 31, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Community Assessment for Public Health Emergency Response (CASPER) (OMB Control Number 0920-1036, Expiration 12/31/2017)—Revision—National Center for Environmental Health (NCEH), Centers for Disease Control and Prevention (CDC).

Background and Brief Description

The National Center for Environmental Health (NCEH) is requesting a revision of a currently approved generic information collection plan to reduce the number of burden hours associated with conducting Community Assessments for Public Health Emergency Response (CASPERs). Specifically, NCEH seeks to make the following changes:

• Decrease the number of proposed CASPERs conducted annually from 15 to 6.

• Decrease the number of total annual respondents from 3,200 to 1,284, resulting in a burden reduction of 946 hours.

• Update respondent costs to reflect current wage data from 2015.

CASPER is an effective public health tool designed to quickly provide low-cost, household-based information about a community's needs and health status in a simple, easy-to-understand format for decision-makers during a public health emergency. A CASPER can be conducted as part of disaster/emergency response to help inform decision-making and resource distribution.

CASPERs comprise household interviews (approximately 30-minutes long) with an adult (≥18 years of age) household member. Households are identified using a 2-stage process so that they are representative of an entire area. Data are collected about the current household needs (e.g., water, medicine, medical services), aggregated, and provided to the state or other responding agency.

Each time a CASPER is conducted, it is tailored to the current needs of public health and, if appropriate, emergency managers. Because these CASPERs are requested by states during disasters or emergencies, it is important that CDC have the ability to gain urgent approval for data collection.

In the past three years, CDC has conducted two CASPERs. These CASPERs were in support of the California Drought in Mariposa County and the West Virginia Flooding of 2016. The 2016 California Drought CASPER was a successful collaboration between California Department of Public Health, the Mariposa County Health Department, and CDC, which helped characterize the impacts of drought in Mariposa County as well as actions households have taken. These results were useful in allocating resources for response to the drought and in strengthening the emergency preparedness capacity of Mariposa County. The 2016 West Virginia Flood CASPERs assessed household disaster preparedness, access to health care, health impacts due to flood damage, health information sources, and stage of disaster recovery. Approval of this revised generic information collection plan will allow CDC to continue to provide low-cost, household-based information about a community's needs and health status in a simple, easy-to-understand format for decision makers during public health emergencies.

Based on the experience of the past three years, NCEH requests changes to this generic information collection plan to reduce the number of CASPERs conducted annually, reduce the number of referral forms completed, and update respondent costs to reflect wage data from 2015. The revised estimated burden is based on conducting 6 emergency CASPERs per year, interviewing 210 households (the respondents) per CASPER, and completing 24 referral forms per year. The total burden requested for this generic information collection plan is 631 hours from 1,284 respondents (see table below). This is a reduction in burden of 946 hours from the previously approved generic information collection plan. There is no cost to respondents other than their time.

Estimated Annualized Burden Hours
Type of respondents | Form name | Number of respondents | Number of responses per respondent | Average burden per response (in hours)
Households in the selected geographic area to be assessed | CASPER Questionnaire | 1,260 | 1 | 30/60
Households in the selected geographic area to be assessed | Referral Form | 24 | 1 | 2/60

Leroy A. Richardson,
Chief, Information Collection Review Office, Office of Scientific Integrity, Office of the Associate Director for Science, Office of the Director, Centers for Disease Control and Prevention.

[FR Doc. 2017-24418 Filed 11-8-17; 8:45 am]

BILLING CODE 4163-18-P